ENVIRONMENTAL PROTECTION AGENCY

[EPA-HQ-OPP-2002-0202; FRL-8103-4]

Lindane; Cancellation Order

AGENCY: Environmental Protection Agency (EPA).

ACTION: Notice.

SUMMARY: This notice announces EPA's issuance of final orders cancelling the registrations of all pesticide products containing the pesticide lindane. The cancellation orders followed the August 23, 2006 Federal Register Notice of Receipt of Requests (71 FR 49445) (FRL-8089-1) from the lindane registrants to voluntarily cancel their lindane product registrations and announcing the commencement of a public comment period as required by section 6(f)(1) of the Federal Insecticide, Fungicide and Rodenticide Act (FIFRA). In the August 23, 2006 notice, EPA indicated that it would issue an order implementing the cancellations to terminate uses unless the Agency received substantive comments within the 30-day comment period that would merit its further review of these requests, or unless the registrant(s) withdrew their request(s) within this period. The Agency did not receive any comments that required further review of the cancellation requests. Further, the registrants did not withdraw their requests. Accordingly, EPA sent final cancellation orders to the registrants granting the requested cancellations. Any distribution, sale, or use of the lindane products subject to these cancellation orders is permitted only in accordance with the terms of the existing stocks provisions in the cancellation orders and described in Unit VI.

DATES: Cancellation of manufacturing-use product registrations was effective on October 4, 2006, and the last date of use will be July 1, 2007. Cancellation of end-use product registrations will be effective on July 1, 2007, and the last date of use will be October 1, 2009.

FOR FURTHER INFORMATION CONTACT: Mark T. Howard, Special Review and Reregistration Division (7508P), Office of Pesticide Programs, Environmental Protection Agency, 1200 Pennsylvania Ave., NW., Washington, DC 20460-0001; telephone number: (703) 308-8172; fax number: (703) 308-8005; e-mail address: howard.markt@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2002-0202. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket telephone number is (703) 305-5805.

2. Electronic access. You may access this Federal Register document electronically through the EPA Internet under the Federal Register listings at http://www.epa.gov/fedrgstr.

II. What Action is the Agency Taking?

This notice announces the cancellation of registrations of all lindane products. These registrations are listed in sequence by registration number in Table 1 of this unit, along with the effective date of the cancellation and last date of use.

Table 1.—Lindane Product Cancellations
Registration No. | Product name | Company | Effective Date of Cancellation | Last Date of Use
400-490 | Gustafson Flowable Lindane 40% | Chemtura USA Corp. | July 1, 2007 | October 1, 2009
400-532 | Sorghum Guard | Chemtura USA Corp. | July 1, 2007 | October 1, 2009
400-538 | Gustafson Lindane 30C Flowable | Chemtura USA Corp. | July 1, 2007 | October 1, 2009
400-539 | Gustafson Captan Lindane 12.5-25 | Chemtura USA Corp. | July 1, 2007 | October 1, 2009
400-540 | Gustafson Vitavax-Thiram-Lindane Flowable Fungicide Insecticide | Chemtura USA Corp. | July 1, 2007 | October 1, 2009
554-140 | DB-Green L | AGSCO Inc. | July 1, 2007 | October 1, 2009
554-144 | Lindane ST-40 | AGSCO Inc | July 1, 2007 | October 1, 2009
19713-61 | Lindane Technical | Drexel Chemical Co. | October 4, 2006 | July 1, 2007
19713-191 | Lindane Technical | Drexel Chemical Co. | October 4, 2006 | July 1, 2007
19713-387 | Lindane Flowable | Drexel Chemical Co. | July 1, 2007 | October 1, 2009
19713-401 | Lindane 30% | Drexel Chemical Co. | July 1, 2007 | October 1, 2009
82378-1 | Lindane Technical | JLM International Inc. | October 4, 2006 | July 1, 2007

Table 2 of this unit includes the names and addresses of record for all registrants of the products in Table 1 of this unit, in sequence by EPA company number.

Table 2—Registrants of Cancelled Lindane Products
EPA Company No. | Company Name and Address
400 | Chemtura USA Corporation 199 Benson Road Middlebury, Connecticut 06749
540 | AGSCO Inc. PO Box 13458 Grand Forks, North Dakota 58208-3458
19713 | Drexel Chemical Co. 1700 Channel Avenue, PO Box 13327 Memphis, Tennessee 38113-0327
82378 | JLM International Inc. 8675 Hidden River Parkway Tampa, Florida 33637

III. Summary of Public Comments Received and Agency Response to Comments

The Agency received one comment from a children's advocacy group in favor of the cancellation.

IV. Summary of Cancellation Orders

Pursuant to FIFRA section 6(f)(1)(A), EPA granted the cancellation requests for the registrations identified in Table 1 of Unit II. Accordingly, the Agency ordered the cancellation of the manufacturing-use product registrations effective October 4, 2006. EPA ordered the cancellation of end-use product registrations effective July 1, 2007. Any distribution, sale, or use of existing stocks of the products identified in Table 1 in Unit II. in a manner inconsistent with any of the Provisions for Disposition of Existing Stocks set forth in Unit VI. and in the cancellation orders sent to the registrants will be considered a violation of FIFRA. Copies of the cancellation orders are in the docket.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Cancellation of manufacturing-use product registrations was effective on October 4, 2006. Cancellation of end-use product registrations will be effective on July 1, 2007. Existing stocks are those stocks of registered pesticide products which are currently in the United States and which were packaged, labeled, and released for shipment prior to the effective date of the cancellation action. It would be a violation of FIFRA to distribute or sell any stocks currently in the United States which have been produced, packaged, labeled, or released for shipment after the effective dates of cancellation listed in this document.

Existing stocks of the canceled products may be legally distributed or sold until the last date on which the product can be used, as specified in the cancellation orders, provided that use of existing stocks is consistent with the terms of the previously approved labeling on, or that accompanies, the modified product. For manufacturing-use products, the Agency has established in the canellation orders July 1, 2007, as the last day on which exisiting stocks of these products can be used. For end-use products, the Agency expects that existing stocks will be exhausted by October 1, 2009, and, as such, has established in the cancellation orders October 1, 2009, as the last day on which existing stocks of these products can be used.

List of Subjects

Environmental protection, Lindane, Pesticides and pests.

Dated: December 4, 2006.
Debra Edwards,
Director, Special Review and Reregistration Division, Office of Pesticide Programs.

[FR Doc. E6-21101 Filed 12-12-06; 8:45 am]

BILLING CODE 6560-50-S